DEPARTMENT OF COMMERCE

International Trade Administration

[C-570-968]

Aluminum Extrusions from the People's Republic of China: Notice of Postponement of Preliminary Determination in the Countervailing Duty Investigation

AGENCY: Import Administration, International Trade Administration, Department of Commerce.

EFFECTIVE DATE: June 21, 2010.

FOR FURTHER INFORMATION CONTACT: John Conniff, AD/CVD Operations, Office 3, Import Administration, International Trade Administration, U.S. Department of Commerce, 14th Street and Constitution Avenue, NW, Washington, DC 20230; telephone 202-482-1009.

SUPPLEMENTARY INFORMATION:

Background

On April 27, 2010, the Department of Commerce (the Department) published in the Federal Register a notice of initiation of the countervailing duty investigation of aluminum extrusions from the People's Republic of China. See Aluminum Extrusions From the People's Republic of China: Initiation of Countervailing Duty Investigation, 75 FR 22114 (April 27, 2010). On May 11, 2010, petitioners requested, in accordance with section 703(c)(1)(A) of the Tariff Act of 1930, as amended (the Act), and 19 CFR 351 205(b)(2), a 65-day postponement of the preliminary determination.¹

¹ Petitioners are Aerolite Extrusion Company, Alexandria Extrusion Company, Benada Aluminum of Florida, Inc., William L. Bonnell Company, Inc., Frontier Aluminum Corporation, Futura Industries Corporation, Hydro Aluminum North America, Inc., Kaiser Aluminum Corporation, Profile Extrusion Company, Sapa Extrusions, Inc., and Western Extrusions Corporation.

Postponement of Due Date for Preliminary Determination

Section 703(b)(1) of the Act requires the Department to issue the preliminary determination in a countervailing duty investigation within 65 days after the date on which the Department initiated the investigation. However, the Department may postpone, at petitioners' timely request, making the preliminary determination until no later than 130 days after the date on which the administering authority initiated the investigation. See section 703(c)(1)(A) of the Act.

Petitioners' request for a 65-day postponement of the preliminary determination was made 25 days before the scheduled date of the preliminary determination, pursuant to 19 CFR 351.205(e). Therefore, in accordance with section 703(c)(1)(A) of the Act and 19 CFR 351.205(b)(2), we are fully extending the due date for the preliminary determination to no later than 130 days after the day on which the investigation was initiated. The deadline for completion of the preliminary determination is now August 28, 2010. Because that date falls on a weekend, the deadline for completion of this preliminary determination is the next business day, i.e., August 30, 2010.

This notice is issued and published pursuant to section 703(c)(2) of the Act.

Dated: June 15, 2010.
Paul Piquado,
Acting Deputy Assistant Secretary for Import Administration.

[FR Doc. 2010-15099 Filed 6-17-10; 4:15 pm]

BILLING CODE 3510-DS-S